NATIONAL AERONAUTICS AND SPACE ADMINISTRATION

[Notice: (21-065)]

The NASA Guest Operations VIP Bus Escort and Site Lead Team (Go Team) Application Form

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections.

DATES: Comments are due by December 13, 2021.

ADDRESSES: Written comments and recommendations for this information collection should be sent within 60 days of publication of this notice to www.reginfo.gov/public/do/PRAMain. Find this particular information collection by selecting “Currently under 60-day Review-Open for Public Comments” or by using the search function.

FOR FURTHER INFORMATION CONTACT: Requests for additional information or copies of the information collection instrument(s) and instructions should be directed to Claire Little, NASA Clearance Officer, NASA Headquarters, 300 E Street SW, JF0000, Washington, DC 20546, 202-358-2375 or email claire.a.little@nasa.gov.

SUPPLEMENTARY INFORMATION:

I. Abstract

The National Aeronautics and Space Administration (NASA) is committed to effectively performing the Agency's communication function in accordance with the Space Act Section 203 (a) (3) to “provide for the widest practicable and appropriate dissemination of information concerning its activities and the results there of,” and to enhance public understanding of, and participation in, the nation's space program in accordance with the NASA Strategic Plan.

At NASA Kennedy Space Center (KSC) VIP guests come to see launches and leave inspired. To enable and facilitate official outreach, the Outreach & Guest Operations Office (PX-O) relies heavily on NASA employees (civil servants and contractors) who elect to support launches in many capacities, and run tours. PX-O plans to recruit staff to support the Guest Operations VIP Bus Escort and Site Lead Team program known as the GO TEAM program. Bus escorts play a critical role engaging VIP guests, disseminating information about facilities and missions, as well as ensuring guests get to tour locations and launch viewing sites, and are returned to their correct point of departure seamlessly. Of the various launch staffing roles, bus escorts require special skills—the ability to speak well with high level guests about NASA missions and KSC facilities, solve problems with quick thinking, and act as an exemplary spokesperson for NASA.

This role is particularly critical with Artemis-1 launch expected in November 2021, which alone will bring 10,000 VIP Guests to KSC. Numbers like these necessitate a skilled set of over 200 bus escorts for a single launch. The need for VIP bus escorts is essential and urgent. Artemis-1 will reach ½ of the expected total number guests for 2021which is 22,000. The number of guests requires 300 bus escorts, which is 300% greater than the total bus escorts needed in all of the combined launches in 2019.

Bus escorts and additional site leads need to be recruited internally from NASA Kennedy Space Center's internal civil servants and contractors. Guest Operations is looking for GO TEAM bus escorts who “have the right stuff” to address and speak to NASA's highest level guests. As such those NSPIREHub (NASA Serves the Public to Inspire, Reach out, and Engage) staff applicants need to be screened to help assess if they can serve as high-caliber NASA Spokespeople.

II. Methods of Collection

Electronic/Online Web Form

III. Data

Title: The NASA Guest Operations VIP Bus Escort and Site Lead Team (Go Team) Application Form.

OMB Number: 2700-xxxx.

Type of review: New.

Affected Public: NASA Contractors, Civil Servants, Docents and Interns.

Estimated Annual Number of activities: 1.

Estimated number of Respondents per Activity: 255.

Annual Responses: 255.

Estimated Time per Response: 10 minutes.

Estimated Total Annual Burden Hours: 43.

Estimated Total Annual Cost: 1,083.75.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Lori Parker,
NASA PRA Clearance Officer.

[FR Doc. 2021-22307 Filed 10-13-21; 8:45 am]

BILLING CODE 7510-13-P